DEPARTMENT OF TRANSPORTATION

Federal Aviation Administration

Notice of Intent To Rule on Passenger Facility Charge (PFC) Application 11-09-C-00-BWI, To Impose and Use PFC Revenue at Baltimore/Washington International Thurgood Marshall Airport, Baltimore, MD

AGENCY: Federal Aviation Administration (FAA), DOT.

ACTION: Notice of intent to rule on application.

SUMMARY: The FAA proposes to rule and invites public comment on the application to impose and use PFC revenue at Baltimore/Washington International Thurgood Marshall Airport, under the provisions of the Aviation Safety and Capacity Expansion Act of 1990 (Title IX of the Omnibus Budget Reconciliation Act of 1990, Pub. L. 101-508) and Part 158 of the Federal Aviation Regulations (14 CFR part 158).

DATES: Comments must be received on or before February 3, 2012.

ADDRESSES: Comments on this application may be mailed or delivered in triplicate to the FAA at the following address: Federal Aviation Administration, Washington Airports District Office, 23723 Air Freight Lane, Suite 210, Dulles, Virginia 20166. In addition, one copy of any comments submitted to the FAA must be mailed or delivered to Mr. David Isquith, Senior Financial Analysis, Maryland Aviation Administration, at the following address: P.O. Box 8766, BWI Airport, Maryland 21240. Air carriers and foreign air carriers may submit copies of written comments previously provided to Maryland Aviation Administration under section 158.23 of Part 158.

FOR FURTHER INFORMATION CONTACT: Mr. Terry J. Page, Manager, Washington Airports District Office, 23723 Air Freight Lane, Suite 210, Dulles, Virginia 20166, Telephone: (703) 661-1354. The application may be reviewed in person at this same location.

SUPPLEMENTARY INFORMATION: The FAA proposes to rule and invites public comment on the application to impose and use PFC revenue at Baltimore/Washington International Thurgood Marshall Airport under the provisions of 49 U.S.C. 40117 and Part 158 of the Federal Aviation Regulations (14 CFR Part 158). On December 14, 2011, the FAA determined that the application to impose and use PFC submitted by Maryland Aviation Administration was substantially complete within the requirements of section 158.25 of Part 158. The FAA will approve or disapprove the application, in whole or in part, no later than March 19, 2012.

The following is a brief overview of the impose and use application No. 11-09-C-00-BWI:

Proposed charge effective date: March 1, 2018.

Proposed charge expiration date: September 1, 2020.

Level of the proposed PFC: $4.50.

Total estimated PFC revenue: $134,459,000.

Description of Proposed Impose and Use Project

Terminal B/C Connector. This project will construct a 40-foot-wide passenger connector hallway between the secured side of Concourses B and C in order to allow connecting passengers the ability to move freely between Concourse B and C without having to exit the secure side of one concourse and having to be rescreened at a passenger screening checkpoint of the other concourse. The project will also include the widening of Concourse C to provide fire/life safety compliance with required ingress/egress of passengers. In addition, the existing 6-lane passenger security checkpoint for Concourse C will be relocated and expanded to a total of 9 passenger screening lanes to allow for more efficient passenger screening times during peak periods. The existing airline outbound baggage conveyance system will be required to be reconfigured to accommodate the Concourse B/C Connector project along with the relocation/reconfiguration of several airport concessions, Maryland Aviation Administration offices. Other elements include the reconfiguration of several emergency exit stairwells and the construction of a temporary passenger hallway connector between Concourse B and C that will be required during construction. The Concourse C mechanical chiller is being upgraded to accommodate the additional terminal square footage.

Class or Classes of Air Carriers Which the Public Agency Has Requested Not To Be Required to Collect PFCS: Nonscheduled/on demand air carriers, filing FAA Form 1800-31.

Any person may inspect the application in person at the FAA office listed above under FOR FURTHER INFORMATION CONTACT. In addition, any person may, upon request, inspect the application, notice and other documents germane to the application in person at the Maryland Aviation Administration.

Issued at Dulles, Virginia, on December 14, 2011.
Terry J. Page,
Manager, Washington Airports District Office.

[FR Doc. 2011-32559 Filed 12-20-11; 8:45 am]

BILLING CODE 4910-13-P